POSTAL SERVICE

Board of Governors; Sunshine Act Meeting

DATES AND TIMES: January 7, 2014, at 2:30 p.m., and January 8, 2014, at 7:15 a.m.

PLACE: Las Vegas, Nevada.

STATUS: Closed.

Matters To Be Considered

Tuesday, January 7, 2014, at 2:30 p.m.

1. Strategic Issues.

2. Pricing.

3. Governors' Executive Session.

Wednesday, January 8, 2014, at 7:15 a.m.

1. Financial Matters.

2. Strategic Issues (Continued).

3. Personnel Matters and Compensation Issues.

4. Board Executive Session—Discussion of prior agenda items and Board Governance.

CONTACT PERSON FOR MORE INFORMATION: Julie S. Moore, Secretary of the Board, U.S. Postal Service, 475 L'Enfant Plaza SW., Washington, DC 20260-1000. Telephone (202) 268-4800.

Julie S. Moore,
Secretary.

[FR Doc. 2013-31100 Filed 12-24-13; 11:15 am]

BILLING CODE 7710-12-P